COMMISSION ON CIVIL RIGHTS

Notice of Public Meeting of the South Dakota Advisory Committee; Cancellation

AGENCY: Commission on Civil Rights

ACTION: Notice; cancellation of meeting dates.

SUMMARY: The Commission on Civil Rights published a notice in the Federal Register concerning a meeting of the South Dakota Advisory Committee. The following meetings are cancelled: Monday, January 9, 2023, and Monday, February 13, 2023; both at 3:30 p.m. (CT). The notice is in the Federal Register of Tuesday, November 1, 2022, in FR Doc. 2022-23714, in the first, second, and third columns of page 65742.

FOR FURTHER INFORMATION CONTACT: Mallory Trachtenberg, 202-809-9618, mtrachtenberg@usccr.gov.

Dated: December 16, 2022.
David Mussatt,
Supervisory Chief, Regional Programs Unit.

[FR Doc. 2022-27704 Filed 12-20-22; 8:45 am]

BILLING CODE P